DEPARTMENT OF DEFENSE

Defense Threat Reduction Agency; Privacy Act of 1974; Systems of Records

AGENCY: Defense Threat Reduction Agency.

ACTION: Notice to Amend a System of Records; HDTRA 002-Employee Relations.

SUMMARY: The Defense Threat Reduction Agency is amending a system of records notice to its existing inventory of record systems subject to the Privacy Act of 1974 (5 U.S.C. 552a), as amended.

DATES: This action will be effective without further notice on September 2, 2005 unless comments are received that would result in a contrary determination.

ADDRESSES: Send comments to the Freedom of Information Act/Privacy Act Officer, Defense Threat Reduction Agency, 8725 John J. Kingman Road, Stop 6201, Fort Belvoir, VA 22060-6201.

FOR FURTHER INFORMATION CONTACT: Ms. Brenda Carter at (703) 325-1205.

SUPPLEMENTARY INFORMATION: The Defense Threat Reduction Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: July 27, 2005.
Jeannette Owings-Ballard,
OSD Federal Register Liaison Officer, Department of Defense.

HDTRA 002

System name:

Employee Relations (December 14, 1998, 63 FR 68736)

Changes:

System location:

Delete entry and replace with “Office of Manpower and Personnel, Defense Threat Reduction Agency, 8725 John J. Kingman Road, Fort Belvoir, VA 22060-6201”

* * * * *

System manager(s) and addresses:

Delete entry and replace with “Chief, Manpower and Personnel, Defense Threat Reduction Agency, 8725 John J. Kingman Road, Fort Belvoir, VA 22060-6201”

Notification procedure:

Delete address and replace with “General Counsel, Defense Threat Reduction Agency, 8725 John J. Kingman Road, Fort Belvoir, VA 22060-6201”

Record access procedures:

Delete address and replace with “General Counsel, Defense Threat Reduction Agency, 8725 John J. Kingman Road, Fort Belvoir, VA 22060-6201”

Contesting record procedures:

Delete “DTRA Instruction 5400.11B” and replace with “DTRA Instruction 5400.11” Delete address and replace with “General Counsel, Defense Threat Reduction Agency, 8725 John J. Kingman Road, Fort Belvoir, VA 22060-6201”

* * * * *

HDTRA 002

System name:

Employee Relations.

System location:

Office of Manpower and Personnel, Defense Threat Reduction Agency, 8725 John J. Kingman Road, Fort Belvoir, VA 22060-6201.

Civilian Personnel Office, Building 20203A, Kirtland Air Force Base, Albuquerque, NM 87115-5000.

Categories of individuals covered by the system:

Civilian employees and former employees paid from appropriated funds serving under career, career-conditional, temporary and excepted service appointments on whom suitability, discipline, grievance, and appeal records exist.

Categories of records in the system:

Documents and information pertaining to discipline, grievances, and appeals.

Authority for maintenance of the system:

5 U.S.C. 1302, 3301, 3302, 7301; E.O. 11557; E.O. 11491; E.O. 12564 and E.O. 9397 (SSN).

Purpose(s):

For use by agency officials and employees in the performance of their official duties related to management of civilian employees and the processing, administration and adjudication of discipline, grievances, suitability and appeals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Appeals examiners of the Merit Systems Protection Board to adjudicate appeals.

The Comptroller General or his authorized representatives and the Attorney General of the United States or his authorized representatives in connection with grievances, disciplinary actions, suitability, and appeals, and to Federal Labor Relations officials in the performance of official duties.

The ‘Blanket Routine Uses' published at the beginning of DTRA's compilation of system of records notices apply to this system.

Policies and practices for storing, retrieving, accessing, retaining, and disposing of records in the system:

Storage:

Records are stored in paper folders.

Retrievability:

Records at Defense Threat Reduction Agency are retrieved alphabetically by last name of individual. Records at Kirtland Air Force Base are filed by Social Security Number.

Safeguards:

Buildings are protected by security guards and an intrusion alarm system. Records are maintained in locked security containers in a locked room accessible only to personnel who are properly screened, cleared and trained.

Retention and disposal:

Records are destroyed upon separation of the employee from the agency or in accordance with appropriate records disposal schedules.

System manager(s) and addresses:

Chief, Manpower and Personnel, Defense Threat Reduction Agency, 45045 Aviation Drive, Dulles, VA 20166-7517.

Notification procedure:

Individuals seeking to determine whether information about themselves is contained in this system of records should address written inquiries to the General Counsel, Defense Threat Reduction Agency, 8725 John J. Kingman Road, Fort Belvoir, VA 22060-6201.

The letter should contain the full name and signature of the requester and the approximate period of time, by date, during which the case record was developed.

Record access procedures:

Individuals seeking access to information about themselves contained in this system of records should address written inquiries to the General Counsel, Defense Threat Reduction Agency, 8725 John J. Kingman Road, Fort Belvoir, VA 22060-6201.

The letter should contain the full name and signature of the requester and the approximate period of time, by date, during which the case record was developed.

Contesting record procedures:

The DTRA rules for accessing records and for contesting contents and appealing initial agency determinations are published in DTRA Instruction 5400.11; 32 CFR part 318; or may be obtained from the General Counsel, Defense Threat Reduction Agency, 8725 John J. Kingman Road, Fort Belvoir, VA 22060-6201.

Record source categories:

Supervisors or other appointed officials designated for this purpose.

Exemptions claimed for the system:

None.

[FR Doc. 05-15359 Filed 8-2-05; 8:45 am]

BILLING CODE 5001-06-P